DEPARTMENT OF ENERGY

Federal Energy Regulatory Commission

Combined Notice of Filings #1

Take notice that the Commission received the following electric corporate filings:

Docket Numbers: EC14-1-000.

Applicants: Castlebridge Energy Group LLC.

Description: Application of Castlebridge Energy Group LLC for Authorization for Disposition of Jurisdictional Facilities and for Expedited Consideration and Other Relief.

Filed Date: 10/1/13.

Accession Number: 20131001-5289.

Comments Due: 5 p.m. ET 10/22/13.

Take notice that the Commission received the following exempt wholesale generator filings:

Docket Numbers: EG14-1-000.

Applicants: Burgess Biopower LLC.

Description: Self-Certification of EWG Status of Burgess Biopower LLC.

Filed Date: 10/2/13.

Accession Number: 20131002-5089.

Comments Due: 5 p.m. ET 10/23/13.

Take notice that the Commission received the following electric rate filings:

Docket Numbers: ER11-2814-003.

Applicants: American Transmission Systems, Incorporation, PJM Interconnection, L.L.C.

Description: ATSI submits Compliance filing per 9/19/2013 Order in “ER11-2814” & ER11-2815 to be effective N/A.

Filed Date: 10/3/13.

Accession Number: 20131003-5090.

Comments Due: 5 p.m. ET 10/24/13.

Docket Numbers: ER11-2815-005.

Applicants: American Transmission Systems, Incorporation, PJM Interconnection, L.L.C.

Description: ATSI submits Compliance filing per 9/19/2013 Order in “ER11-2815” & ER11-2814 to be effective 6/1/2011.

Filed Date: 10/3/13.

Accession Number: 20131003-5087.

Comments Due: 5 p.m. ET 10/24/13.

Docket Numbers: ER13-247-003.

Applicants: NV Energy, Inc.

Description: Transmission Rate Case—SPPC Refund Report to be effective N/A.

Filed Date: 10/1/13.

Accession Number: 20131001-5271.

Comments Due: 5 p.m. ET 10/22/13.

Docket Numbers: ER13-1422-004.

Applicants: Ebensburg Power Company.

Description: Inquiry Response to be effective 5/12/2013.

Filed Date: 10/2/13.

Accession Number: 20131002-5023.

Comments Due: 5 p.m. ET 10/23/13.

Docket Numbers: ER13-2101-001.

Applicants: Virginia Electric and Power Company.

Description: Compliance Filing—Rate Sched No. 122 Transfer from Old DB to New DB to be effective 10/3/2013.

Filed Date: 10/2/13.

Accession Number: 20131002-5049.

Comments Due: 5 p.m. ET 10/23/13.

Docket Numbers: ER13-2101-002.

Applicants: Virginia Electric and Power Company.

Description: Compliance Filing—2 Rate Sched 122 Transfer Amded Old DB to New DB to be effective 10/4/2013.

Filed Date: 10/3/13.

Accession Number: 20131003-5117.

Comments Due: 5 p.m. ET 10/24/13.

Docket Numbers: ER13-2120-001.

Applicants: Bangor Hydro Electric Company.

Description: Submittal of Executed Agreement to be effective 8/8/2013.

Filed Date: 10/3/13.

Accession Number: 20131003-5057.

Comments Due: 5 p.m. ET 10/15/13.

Docket Numbers: ER14-8-000.

Applicants: Public Service Company of Oklahoma.

Description: AEP West Operating Agreement Amendment to be effective 3/1/2014.

Filed Date: 10/1/13.

Accession Number: 20131001-5274.

Comments Due: 5 p.m. ET 10/22/13.

Docket Numbers: ER14-9-000.

Applicants: Southwestern Electric Power Company.

Description: AEP West Operating Agreement Amendment Concurrence to be effective 3/1/2014.

Filed Date: 10/1/13.

Accession Number: 20131001-5276.

Comments Due: 5 p.m. ET 10/22/13.

Docket Numbers: ER14-10-000.

Applicants: WSPP Inc.

Description: Revisions to the List of Members to be effective 10/13/2013.

Filed Date: 10/1/13.

Accession Number: 20131001-5277.

Comments Due: 5 p.m. ET 10/22/13.

Docket Numbers: ER14-11-000.

Applicants: Central Maine Power Company.

Description: Executed Amended Interconnection Agreement with Spruce Mountain Wind, LLC to be effective 10/2/2013.

Filed Date: 10/1/13.

Accession Number: 20131001-5280.

Comments Due: 5 p.m. ET 10/22/13.

Docket Numbers: ER14-12-000.

Applicants: Vermont Electric Power Company, Inc., Vermont Transco LLC.

Description: Joint Request for Authorization of Deferred Cost Recovery of Vermont Electric Power Company, Inc., et al.

Filed Date: 10/2/13.

Accession Number: 20131002-5040.

Comments Due: 5 p.m. ET 10/23/13.

Docket Numbers: ER14-13-000.

Applicants: NorthWestern Corporation.

Description: Revised Rate Schedule No. 265—Shell Energy System Balancing Service Agreement to be effective 10/3/2013.

Filed Date: 10/2/13.

Accession Number: 20131002-5048.

Comments Due: 5 p.m. ET 10/23/13.

Docket Numbers: ER14-14-000.

Applicants: NorthWestern Corporation.

Description: Revisions to Montana OATT Schedule 3 to be effective 9/27/2013.

Filed Date: 10/2/13.

Accession Number: 20131002-5058.

Comments Due: 5 p.m. ET 10/23/13.

Docket Numbers: ER14-15-000.

Applicants: CES Placerita, Incorporated.

Description: Market Based Rate Triennial Review to be effective N/A.

Filed Date: 10/2/13.

Accession Number: 20131002-5067.

Comments Due: 5 p.m. ET 12/2/13.

Docket Numbers: ER14-16-000.

Applicants: Burgess Biopower LLC.

Description: Baseline new to be effective 10/15/2013.

Filed Date: 10/2/13.

Accession Number: 20131002-5068.

Comments Due: 5 p.m. ET 10/23/13.

Docket Numbers: ER14-17-000.

Applicants: Florida Power & Light Company.

Description: FPL and Seminole Electric Cooperative, Inc. Revisions to TSA No. 162 to be effective 11/1/2013.

Filed Date: 10/2/13.

Accession Number: 20131002-5092.

Comments Due: 5 p.m. ET 10/23/13.

Docket Numbers: ER14-18-000.

Applicants: Black Hills/Colorado Electric Utility Company, LP.

Description: Black Hills Colorado and Arkansas River Power Authority NITS and NOA to be effective 10/1/2013.

Filed Date: 10/2/13.

Accession Number: 20131002-5093.

Comments Due: 5 p.m. ET 10/23/13.

Docket Numbers: ER14-19-000.

Applicants: West Deptford Energy, LLC.

Description: Application for Market-Based Rate Authorization to be effective 12/2/2013 under ER14-19 Filing Type: 400.

Filed Date: 10/3/13.

Accession Number: 20131003-5123.

Comments Due: 5 p.m. ET 10/24/13.

Take notice that the Commission received the following electric securities filings:

Docket Numbers: ES13-44-000; ES13-45-000; ES13-46-000; ES13-47-000; ES13-48-000; ES13-49-000; ES13-50-000.

Applicants: Entergy Arkansas, Inc., Entergy Gulf States Louisiana, L.L.C., Entergy Louisiana, LLC, Entergy Mississippi, Inc., Entergy New Orleans, Inc., Entergy Texas, Inc., System Energy Resources, Inc.

Description: Supplement to July 31, 2013 Joint application for authorizations under FPA Section 204 of Entergy Services, Inc., et al.

Filed Date: 10/3/13.

Accession Number: 20131003-5135.

Comments Due: 5 p.m. ET 10/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2013.
Nathaniel J. Davis, Sr.,
Deputy Secretary.

[FR Doc. 2013-24454 Filed 10-11-13; 8:45 am]

BILLING CODE 6717-01-P